ENVIRONMENTAL PROTECTION AGENCY

40 CFR Part 52

[EPA-R03-OAR-2010-0601; FRL-9736-1]

Approval and Promulgation of Air Quality Implementation Plans; Pennsylvania; The 2002 Base Year Inventory for the Pittsburgh-Beaver Valley Area for 1997 Fine Particulate Matter National Ambient Air Quality Standard

AGENCY: Environmental Protection Agency (EPA).

ACTION: Proposed rule.

SUMMARY: EPA is proposing to approve the fine particulate matter (PM2.5) 2002 base year emissions inventory portion of the Pennsylvania State Implementation Plan (SIP) revision submitted by the Commonwealth of Pennsylvania, through the Pennsylvania Department of Environmental Protection (PADEP), on November 10, 2009 for the Pittsburgh-Beaver Valley, PA nonattainment area (hereafter referred to as the Area). The emissions inventory is part of the November 10, 2009 SIP revision that was submitted to meet nonattainment requirements related to the Area for the 1997 PM2.5 National Ambient Air Quality Standard (NAAQS) SIP. EPA is proposing to approve the 2002 base year PM2.5 emissions inventory for the Area in accordance with the requirements of the Clean Air Act (CAA).

DATES: Written comments must be received on or before November 2, 2012.

ADDRESSES: Submit your comments, identified by Docket ID Number EPA-R03-OAR-2010-0601 by one of the following methods:

A. www.regulations.gov. Follow the on-line instructions for submitting comments.

B. Email: mastro.donna@epa.gov.

C. Mail: EPA-R03-OAR-2010-0140, Donna Mastro, Acting Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2010-0601. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Ruth Knapp, (215) 814-2191, or by email at knapp.ruth@epa.gov.

SUPPLEMENTARY INFORMATION:

I. Background

II. Summary of SIP Revision

III. Proposed Action

IV. Statutory and Executive Order Reviews

I. Background

Throughout this document, whenever “we,” “us,” or “our” is used, we mean EPA. On July 18, 1997 (62 FR 38652), EPA promulgated the 1997 PM2.5 NAAQS, including an annual standard of 15.0 micrograms per cubic meter (μg/m³) based on a 3-year average of annual mean PM2.5 concentrations, and a 24-hour (or daily) standard of 65 μg/m³ based on a 3-year average of the 98th percentile of 24-hour concentrations. EPA established the standards based on significant evidence and numerous health studies demonstrating that serious health effects are associated with exposures to PM2.5.

Following promulgation of a new or revised NAAQS, EPA is required by the CAA to designate areas throughout the United States as attaining or not attaining the NAAQS; this designation process is described in section 107(d)(1) of the CAA. In 1999, EPA and state air quality agencies initiated the monitoring process for the 1997 PM2.5 NAAQS and, by January 2001, established a complete set of air quality monitors. On January 5, 2005, EPA promulgated initial air quality designations for the 1997 PM2.5 NAAQS (70 FR 944), which became effective on April 5, 2005, based on air quality monitoring data for calendar years 2001-03.

On April 14, 2005, EPA promulgated a supplemental rule (70 FR 19844) amending our initial designations (70 FR 944), with the same effective date (April 5, 2005). As a result of this supplemental rule, PM2.5 nonattainment designations are in effect for 39 areas, comprising 208 counties within 20 states (and the District of Columbia) nationwide, with a combined population of approximately 88 million. The Area, which is the subject of this rulemaking, was included in the list of areas not attaining the 1997 PM2.5 NAAQS. The Area consists of the following: Allegheny County (remainder of county not included in Liberty-Clairton nonattainment area); Armstrong County (portion consisting of Elderton Borough and Plum Creek and Washington Townships); Beaver County; Butler County; Greene County (portion consisting of Monongahela Township); Lawrence County (portion consisting of Township of Taylor south of New Castle City); Washington County; and Westmorland County.

Section 172(c)(3) of the CAA requires submission and approval of a comprehensive, accurate, and current inventory of actual emissions. This proposed approval is limited to the emissions inventory for the Area. Separate action will be taken on the remainder of Pennsylvania's November 10, 2009 SIP submittal.

II. Summary of SIP Revision

The 2002 base year emission inventory submitted by PADEP on November 10, 2009 for the Area includes emissions estimates that cover the general source categories of point sources, area sources, on-road mobile sources, and non-road mobile sources. The pollutants that comprise the inventory are PM2.5, coarse particles (PM10), nitrogen oxides (NOX), volatile organic compounds (VOCs), ammonia (NH3), and sulfur dioxide (SO2). EPA has reviewed the results, procedures and methodologies for the base year emissions inventory submitted by PADEP. The year 2002 was selected by PADEP as the base year for the emissions inventory per 40 CFR 51.1008(b). A discussion of the emissions inventory development as well as the emissions inventory for the Area can be found in Section III of the November 10, 2009 SIP submittal.

Table 1, below, provides a summary of the annual 2002 emissions of PM2.5, PM10, SO2, NOX, VOCs, and NH3 for the Area submittal.

Table 1—2002 Annual Emissions
[Tons per year]
Pittsburgh-Beaver Valley Area 2002 | PM2.5 | PM10 | SO2 | NOX | VOC | NH3
Stationary Point Sources | 4868 | 11149 | 463501 | 110618 | 5157 | 462
Area Sources | 7916 | 41206 | 9905 | 8622 | 36683 | 2948
Highway Vehicle Sources | 824 | 1164 | 1770 | 53268 | 25638 | 1884
Non-Road Sources | 1297 | 1359 | 1694 | 25975 | 13421 | 8
Totals | 14904 | 54879 | 476871 | 198483 | 80898 | 5303

The CAA section 172(c)(3) emissions inventory is developed by the incorporation of data from multiple sources. States were required to develop and submit to EPA a triennial emissions inventory according to the Consolidated Emissions Reporting Rule (CERR) for all source categories (i.e., point, area, nonroad mobile and on-road mobile). The review and evaluation of the methods used for the emissions inventory submitted by Pennsylvania are found in the Technical Support Document dated August 12, 2010 available online at www.regulations.gov, Docket No. EPA-R03-OAR-2010-0601. EPA finds that the process used to develop this emissions inventory for the Area is adequate to meet the requirements of CAA section 172(c)(3), the implementing regulations, and EPA guidance for emission inventories.

III. Proposed Action

EPA is proposing to approve the 2002 base year emissions inventory portion of the SIP revision submitted by the Commonwealth of Pennsylvania on November 10, 2009 for the Pittsburgh-Beaver Valley Area. We have made the determination that this action is consistent with section 110 of the CAA. EPA is soliciting public comments on the issues discussed in this document. These comments will be considered before taking final action.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule, pertaining to the PM2.5 2002 base year emissions inventory portion of the Pennsylvania SIP for the Pittsburgh-Beaver Valley Area, does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Nitrogen dioxide, Particulate matter, Reporting and recordkeeping requirements, Sulfur oxides, Volatile organic compounds.

Authority: 42 U.S.C. 7401 et seq.

Dated: September 18, 2012.
W.C. Early,
Acting Regional Administrator, Region III.

[FR Doc. 2012-24380 Filed 10-2-12; 8:45 am]

BILLING CODE 6560-50-P